DEPARTMENT OF ENERGY

Federal Energy Regulatory Commission

[Project No. 2972-027]

City of Woonsocket; Notice of Technical Meeting

a. Date and Time of Meeting: September 10, 2019 at 10:00 a.m. Eastern Standard Time.

b. Place: Telephone conference.

c. FERC Contact: Patrick Crile at patrick.crile@ferc.gov, or (202) 502-8042.

d. Purpose of Meeting: As part of the relicensing of the Woonsocket Falls Project No. 2972 (project), Commission Staff is hosting a technical meeting to discuss: (1) The operation of the U.S. Army Corp of Engineers' (Corps) Woonsocket Falls Dam; (2) the effect of the Corps' operation of the Woonsocket Falls Dam on environmental resources at the project; and (3) the status of the development of an operating plan and Memorandum of Agreement between the City of Woonsocket and the Corps regarding the hydropower project operation.

e. A summary of the meeting will be prepared and filed in the Commission's public file for the project.

f. All local, state, and federal agencies, Indian tribes, and other interested parties are invited to participate by phone. Please call Patrick Crile at (202) 502-8042 by September 9, 2019, to RSVP and to receive specific instructions on how to participate in the meeting.

Dated: August 30, 2019.
Nathaniel J. Davis, Sr.,
Deputy Secretary.

[FR Doc. 2019-19271 Filed 9-5-19; 8:45 am]

BILLING CODE 6717-01-P